DEPARTMENT OF ENERGY

Federal Energy Regulatory Commission

[Docket No. CP04-80-000]

WPS-ESI Gas Storage, LLC; Notice Of Application for Section 284.224 Blanket Certificate

March 16, 2004.

Take notice that on March 11, 2004, WPS-ESI Gas Storage, LLC filed an application, pursuant to § 284.224 of the Commission's regulations, as a Hinshaw natural gas storage entity in Michigan not subject to Commission jurisdiction by reason of section 1(c) of the Natural Gas Act (NGA). WPS-ESI Gas Storage requests a blanket certificate authorizing it to engage in the transportation or sale of natural gas that is subject to the Commission's NGA jurisdiction to the same extent that and in the same manner that intrastate pipelines are authorized to engage in such activities, transactions and services by Part 284, subparts C and D of the regulations. WPS-ESI Gas Storage also applies for authorization to charge market-based, firm and interruptible rates for such services because it asserts that it lacks the necessary market power in performing gas storage services to be able to charge rates in excess of amounts that its competitors charge for comparable storage services in the relevant market (or which that market would pay for alternatives for storage) for a significant period of time.

WPS-ESI Gas Storage explains that it owns and operates the Kimball 27 Gas Storage Field, which is an underground Niagaran gas reservoir storage facility with a working gas capacity of 3.049 Bcf that is located in St. Clair County, Michigan. WPS-ESI Gas Storage presently provides storage services at Kimball 27 subject to regulation by the Michigan Public Service Commission.

WPS-ESI Gas Storage states that a copy of this filing has been served on the interested state commissions.

Any person desiring to be heard or to protest said filing should file a motion to intervene or a protest with the Federal Energy Regulatory Commission, 888 First Street, NE., Washington, DC 20426, in accordance with § 385.214 or § 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's website at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Intervention and Protests Date: March 26, 2004.

Magalie R. Salas,
Secretary.

[FR Doc. E4-645 Filed 3-22-04; 8:45 am]

BILLING CODE 6717-01-P